DEPARTMENT OF DEFENSE

Office of the Secretary

[Transmittal No. 25-28]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-28 and Policy Justification.

Dated: January 7, 2026.
Stephanie J. Bost,
Alternate OSD Federal Register Liaison Officer, Department of Defense.

BILLING CODE 6001-FR-P

BILLING CODE 6001-FR-C

Transmittal No. 25-28

Notice of Proposed Issuance of Letter of Offer Pursuant to Section 36(b)(1) of the Arms Export Control Act

(i) Prospective Purchaser: Government of Israel

(ii) Total Estimated Value:

Major Defense Equipment * | $ 0
Other | $180 million
TOTAL | $180 million

Funding Source: Foreign Military Financing

(iii) Description and Quantity or Quantities of Articles or Services under Consideration for Purchase: Foreign Military Sales (FMS) case IS-B-ZMU was below congressional notification threshold at $85.5 million ($0 in MDE) and included Eitan 8V199TE21-D powerpack engines and engine components; United States (U.S.) Government and contractor technical assistance; contractor non-recurring engineering; and other related elements of logistics and program support. The Government of Israel has requested that the case be amended to include additional 8V199TE21-D powerpack engines and engine components. This amendment will cause the case to exceed the notification threshold, and thus notification of the entire program is required. The above notification requirements are combined as follows:

Major Defense Equipment (MDE):

None

Non-Major Defense Equipment:

The following non-MDE items will be included: Eitan 8V199TE21-D powerpack engines and engine components; U.S. Government and contractor technical assistance; contractor non-recurring engineering; and other related elements of logistics and program support.

(iv) Military Department: Army (IS-B-ZMU)

(v) Prior Related Cases, if any: None

(vi) Sales Commission, Fee, etc., Paid, Offered, or Agreed to be Paid: None known at this time

(vii) Sensitivity of Technology Contained in the Defense Article or Defense Services Proposed to be Sold: None

(viii) Date Report Delivered to Congress: April 14, 2025

* as defined in Section 47(6) of the Arms Export Control Act.

POLICY JUSTIFICATION

Israel—Eitan Powerpack Engines

The Government of Israel has requested to buy additional Eitan 8V199TE21-D powerpack engines and engine components that will be added to a previously implemented case whose value was under the congressional notification threshold. The original Foreign Military Sales (FMS) case, valued at $85.5 million ($0 in MDE), included Eitan 8V199TE21-D powerpack engines and engine components; U.S. Government and contractor technical assistance; contractor non-recurring engineering; and other related elements of logistics and program support. This notification is for a combined notification of non-MDE Eitan 8V199TE21-D powerpack engines and engine components; U.S. Government and contractor technical assistance; contractor non-recurring engineering; and other related elements of logistics and program support. The estimated total cost is $180 million.

The U.S. is committed to the security of Israel, and it is vital to U.S. national interests to assist Israel to develop and maintain a strong and ready self-defense capability. This proposed sale is consistent with those objectives.

The proposed sale will enhance Israel's capability to meet current and future threats by improving its ability to defend Israel's borders, vital infrastructure, and population centers. This proposed sale will increase the interoperability with U.S. forces and conveys U.S. commitment to Israel's security and armed forces modernization. Israel will have no difficulty absorbing this equipment into its armed forces.

The proposed sale of this equipment and support will not alter the basic military balance in the region.

The principal contractor will be Rolls-Royce Solutions America, Inc., located in Novi, MI. At this time, the U.S. Government is not aware of any offset agreement proposed in connection with this potential sale. Any offset agreement will be defined in negotiations between the purchaser and the contractor.

Implementation of this proposed sale will not require the assignment of any additional U.S. Government or contractor representatives to Israel.

There will be no adverse impact on U.S. defense readiness as a result of this proposed sale.

[FR Doc. 2026-00312 Filed 1-9-26; 8:45 am]

BILLING CODE 6001-FR-P